FEDERAL RETIREMENT THRIFT INVESTMENT BOARD

Employee Thrift Advisory Council Meeting; Notice of Sunshine Act Meeting

TIME AND DATE: 9 a.m. (Eastern Time) April 30, 2012.

PLACE: 10th Floor Training Room, 77 K Street NE., Washington, DC 20002.

STATUS: Parts will be open to the public and parts closed to the public.

MATTERS TO BE CONSIDERED:

Parts Open to the Public

1. Approval of the Minutes of the March 26, 2012 Board Member Meeting

2. Approval of the Minutes of the November 15, 2011 ETAC Meeting

3. Monthly Participant Activity Report

4. Legislative Report

5. Discussion on Automatically Increasing Participant Contributions

6. Quarterly Investment Policy Review

7. Discussion of International Fund Index

8. Vendor Financial Review

9. Annual Financial Audit Report

10. Participant Survey Report

11. Update on Deployment of Roth Feature

Parts Closed to the Public

12. Security

CONTACT PERSON FOR MORE INFORMATION: Kimberly Weaver, Director, Office of External Affairs, (202) 942-1640.

Dated: April 20, 2012.
Megan G. Grumbine,
Deputy General Counsel, Federal Retirement Thrift Investment Board.

[FR Doc. 2012-9966 Filed 4-20-12; 4:15 pm]

BILLING CODE 6760-01-P